DEPARTMENT OF THE INTERIOR

Bureau of Ocean Energy Management

[OMB Control Number 1010-0057; MMAA104000]

Information Collection: Pollution Prevention and Control; Proposed Collection for OMB Review; Comment Request

ACTION: 60-Day notice.

SUMMARY: To comply with the Paperwork Reduction Act of 1995 (PRA), the Bureau of Ocean Energy Management (BOEM) is inviting comments on a collection of information that we will submit to the Office of Management and Budget (OMB) for review and approval. The information collection request (ICR) concerns the paperwork requirements in the regulations under 30 CFR 550, Subpart C, Pollution Prevention and Control.

DATES: Submit written comments by July 28, 2014.

ADDRESSES: Please send your comments on this ICR to the BOEM Information Collection Clearance Officer, Arlene Bajusz, Bureau of Ocean Energy Management, 381 Elden Street, HM-3127, Herndon, Virginia 20170 (mail); or arlene.bajusz@boem.gov (email); or 703-787-1209 (fax). Please reference ICR 1010-0057 in your comment and include your name and return address.

FOR FURTHER INFORMATION CONTACT: Arlene Bajusz, Office of Policy, Regulations, and Analysis at (703) 787-1025 to request a copy of the ICR.

SUPPLEMENTARY INFORMATION: Title: 30 CFR part 550, Subpart C, Pollution Prevention and Control.

OMB Control Number: 1010-0057.

Abstract: The Outer Continental Shelf (OCS) Lands Act, as amended (43 U.S.C. 1331 et seq., and 43 U.S.C. 1801 et seq.), authorizes the Secretary of the Interior (Secretary) to prescribe rules and regulations to manage the mineral resources of the OCS. Such rules and regulations apply to all operations conducted under a lease, right-of-use and easement, and pipeline right-of-way. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well-trained personnel using technology, precautions, and techniques sufficient to prevent or minimize . . . occurrences which may cause damage to the environment or to property, or endanger life or health.” Section 1334(a)(8) requires that regulations prescribed by the Secretary include provisions “for compliance with the national ambient air quality standards [NAAQS] pursuant to the Clean Air Act (42 U.S.C. 7401 et seq.), to the extent that activities authorized under this Act significantly affect the air quality of any State.” This information collection renewal concerns the regulations at 30 CFR Part 550, Subpart C, Pollution Prevention and Control. It also covers the related Notices to Lessees and Operators (NTLs) that BOEM issues to clarify and provide additional guidance on some aspects of the regulations. BOEM uses the information to ensure operations are conducted according to all applicable regulations and permit conditions and in a manner that minimizes air pollution.

We will protect information from respondents considered proprietary under the Freedom of Information Act (5 U.S.C. 552) and its implementing regulations (43 CFR part 2) and under regulations at 30 CFR 550.197, “Data and information to be made available to the public or for limited release.” No items of a sensitive nature are collected. Responses are mandatory.

Frequency: On occasion, monthly, or annually.

Description of Respondents: Potential respondents comprise Federal OCS oil and gas or sulphur lessees and States.

Estimated Reporting and Recordkeeping Hour Burden: We estimate the burden for this collection to be about 112,111 hours. The following table details the individual components and respective hour burden estimates of this ICR. In calculating the burdens, we assumed that respondents perform certain requirements in the normal course of their activities. We consider these to be usual and customary and took that into account in estimating the burden.

Burden Breakdown
Citation 30 CFR 550 Subpart C and related NTL(s) | Reporting and recordkeeping requirement | Hour burden | Average number of annual responses | Annual burden hours
Facilities described in new or revised EP or DPP
303; 304(a), (f) | Submit, modify, or revise Exploration Plans and Development and Production Plans; submit information required under 30 CFR Part 550, Subpart B. | Burden covered under 1010-0151 (30 CFR Part 550, Subpart B) |  | 0
303(k); 304(a), (g) | Collect and report (in manner specified) air quality emissions related data (such as facility, equipment, fuel usage, and other activity information) during each specified calendar year for input into State and regional planning organizations modeling | 44 hrs per emission source | 2,546 | 112,024
303(l); 304(b); 304(h) | Collect and submit (in manner specified) meteorological data (not routinely collected—minimal burden); emission data for existing facilities to a State. (None submitted during renewal cycle.) | 1 | 1 | 1
Subtotal |  |  | 2,547 | 112,025
Existing Facilities
304; related NTL | Submit copy of State-required Emergency Action Plan (EAP) containing test abatement plans (Pacific OCS Region) | 1 | 1 | 1
304(a), (f) | Affected State may submit request with required information to BOEM for basic emission data from existing facilities to update State's emission inventory | 4 | 5 | 20
304(e)(2) | Submit compliance schedule for application of best available control technology (BACT). (None submitted during renewal cycle.) | 40 | 1 | 40
304(e)(2) | Apply for suspension of operations | Burden covered under BSEE 1014-0022 (30 CFR 250.174) |  | 0
304(f) | Submit information to demonstrate that exempt facility is not significantly affecting air quality of onshore area of a State. Submit additional information, as required. (None submitted during renewal cycle.) | 15 | 1 | 15
Subtotal |  |  | 8 | 76
General
303-304 | General departure and alternative compliance requests not specifically covered elsewhere in subpart C regulations | 2 | 5 | 10
Subtotal |  |  | 5 | 10
Total Burden |  |  | 2,560 | 112,111

Estimated Reporting and Recordkeeping Non-Hour Cost Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

If you have costs to generate, maintain, and disclose this information, you should comment and provide your total capital and startup costs or annual operation, maintenance, and purchase of service costs. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (a) Before October 1, 1995; (b) to comply with requirements not associated with the information collection; (c) for reasons other than to provide information or keep records for the Government; or (d) as part of customary and usual business or private practices.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: May 20, 2014.
Deanna Meyer-Pietruszka,
Chief, Office of Policy, Regulations, and Analysis.

[FR Doc. 2014-12417 Filed 5-28-14; 8:45 am]

BILLING CODE 4310-MR-P